DEPARTMENT OF ENERGY

Federal Energy Regulatory Commission

[Project No. 13331-000]

City of Quincy, IL; Notice of Competing Preliminary Permit Application Accepted for Filing and Soliciting Comments and Motions To Intervene

January 27, 2009.

On November 10, 2008, the City of Quincy, Illinois filed an application, pursuant to section 4(f) of the Federal Power Act, proposing to study the feasibility of the Quincy Area Hydropower Project, which would be located near the town of Clarksville on the Mississippi River at the existing U.S. Army Corps of Engineers' Lock and Dam No. 24 and Reservoir in Calhoun County, Illinois and Pike County, Missouri. The proposed project would utilize federal lands.

The proposed Quincy Area Hydropower Project would utilize the U.S. Army Corps of Engineers' Lock and Dam No. 24 and would consist of the following new facilities: (1) An intake structure, (2) a powerhouse containing 30 generating units with a total installed capacity of 15 MW, (3) a 2.7-mile-long, 34.5 kV underground transmission line, connecting to an existing power line, and (4) appurtenant facilities. The project would have an annual generation of 88 gigawatt-hours, which would be sold to a local utility.

Applicant Contact: Mr. Kenneth Cantrell, Director of Administrative Services, City of Quincy, 730 Maine Street, Quincy, Illinois 62301; phone: (217) 228-4500. FERC Contact: Tom Papsidero, (202) 502-6002.

Competing Application: This application competes with Project No. 13127-000 filed March 3, 2008. Competing applications must be filed on or before November 30, 2008.

Deadline for filing comments and motions to intervene: 60 days from the issuance of this notice. Comments and motions to intervene may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13331) in the docket number field to access the document. For assistance, call toll-free 1-866-208-3372.

Kimberly D. Bose,
Secretary.

[FR Doc. E9-2216 Filed 2-2-09; 8:45 am]

BILLING CODE 6717-01-P